DEPARTMENT OF DEFENSE

Department of the Air Force

Notice of Availability of Software and Documentation for Licensing

AGENCY: Department of the Air Force, Department of Defense.

ACTION: Notice of availability.

SUMMARY: The U.S. Air Force is issuing this notice of availability of HINDSIGHT™ software and related documentation for enabling event-based tagging, multi-source audio archiving, POV video capturing, and user interface utilization tracking by supporting on-demand, mobile mission recording, and debriefing capability.

ADDRESSES: For information on licensing, contact the Office of Research and Technology Applications, 711 HPW/XPO, 2610 Seventh Street, Wright Patterson AFB, OH 45433; Facsimile: (937) 656-7959. For further information contact Dr. James D. Kearns at 937-255-3765.

SUPPLEMENTARY INFORMATION: The HINDSIGHT™ software suite includes Android source code, external comms diagram, and documentation. The HINDSIGHT™ application is built on an extensible software framework to facilitate ease of integration with new wireless audio/video capturing peripherals and associated wearable devices. HINDSIGHT™ has the unique attribute of being designed, ab initio, with the idea of enabling a single operator to capture in real-time customizable inputs sources to archive mission execution. Organizations involved with on-the-move data gathering operations, development, testing, and training could benefit from the use of HINDSIGHTTM.

The HINDSIGHT™ software suite has been utilized in thousands of hours of live dismounted missions across a variety of Air Force, Army, Navy, and Marines activities ranging from close air support to medical training objectives.

Adriane Paris,
Acting Air Force Federal Register Liaison Officer.

[FR Doc. 2020-06735 Filed 3-31-20; 8:45 am]

BILLING CODE 5001-10-P